DEPARTMENT OF TRANSPORTATION

Federal Aviation Administration

14 CFR Part 135

Service Difficulty Reports; Correcting Amendment

AGENCY: Federal Aviation Administration (FAA), DOT.

ACTION: Final rule; correcting amendment.

SUMMARY: This action removes an erroneous reference to a section that appears in the applicability section of operating requirements for commuter and on-demand operations. The intent of this action is to ensure that the regulations are clear and accurate.

DATES: This amendment becomes effective September 18, 2007.

FOR FURTHER INFORMATION CONTACT: Kim Barnette, Aircraft Maintenance Division, Flight Standards Service, Federal Aviation Administration, 800 Independence Avenue, SW., Washington, DC 20591. Telephone: (202) 493-4922; facsimile: (202) 267-5115; e-mail: kim.a.barnette@faa.gov.

SUPPLEMENTARY INFORMATION: On December 29, 2005, the FAA published a final rule (70 FR 76974) that withdrew a final rule entitled Service Difficulty Reports. As part of that withdrawal, the FAA should have removed any cross-reference to § 135.416 that appeared elsewhere in the regulation, since that section was removed as part of withdrawing the Service Difficulty Reports rule.

To correct this oversight, this action removes references to § 135.416 from paragraphs (a)(1) and (a)(2) of § 135.411.

Technical Amendment

The technical amendment will make a minor editorial correction to § 135.411, paragraphs (a)(1) and (a)(2).

Justification for Immediate Adoption

Because this action removes references to a section that no longer exists, the FAA finds that notice and public comment under 5 U.S.C. 553(b) is unnecessary. For the same reason, the FAA finds that good cause exists under 5 U.S.C. 553(d) for making this rule effective upon publication.

List of Subjects in 14 CFR Part 135

Air taxis, Aircraft, Aviation safety, Reporting and recordkeeping requirements.

The Amendment

Accordingly, Title 14 of the Code of Federal Regulations (CFR) part 135 is amended as follows:

PART 135—OPERATING REQUIREMENTS: COMMUTER AND ON-DEMAND OPERATIONS AND RULES GOVERNING PERSONS ON BOARD SUCH AIRCRAFT

1. The authority citation for part 135 continues to read as follows:

Authority: 49 U.S.C. 106(g), 41706, 40113, 44701-44702, 44705, 44709, 44711-44713, 44715-44717, 44722, 45101-45105.

2. Amend § 135.411 by revising paragraphs (a)(1) and (a)(2) to read as follows:

§ 135.411 Applicability.

(a) * * *

(1) Aircraft that are type certificated for a passenger seating configuration, excluding any pilot seat, of nine seats or less, shall be maintained under parts 91 and 43 of this chapter and §§ 135.415, 135.417, 135.421 and 135.422. An approved aircraft inspection program may be used under § 135.419.

(2) Aircraft that are type certificated for a passenger seating configuration, excluding any pilot seat, of ten seats or more, shall be maintained under a maintenance program in §§ 135.415, 135.417, 135.423 through 135.443.

* * * * *

Issued in Washington, DC on September 12, 2007.
Pamela Hamilton-Powell,
Director, Office of Rulemaking, Aviation Safety.

[FR Doc. E7-18350 Filed 9-17-07; 8:45 am]

BILLING CODE 4910-13-P